COMMITTEE FOR PURCHASE FROM PEOPLE WHO ARE BLIND OR SEVERELY DISABLED

Procurement List; Proposed Additions

AGENCY: Committee for Purchase From People Who Are Blind or Severely Disabled.

ACTION: Proposed additions to procurement list.

SUMMARY: The Committee is proposing to add to the Procurement List products and services to be furnished by nonprofit agencies employing persons who are blind or have other severe disabilities.

Comments Must Be Received on or Before: May 29, 2005.

ADDRESSES: Committee for Purchase From People Who Are Blind or Severely Disabled, Jefferson Plaza 2, Suite 10800, 1421 Jefferson Davis Highway, Arlington, Virginia 22202-3259.

For Further Information or to Submit Comments Contact: Sheryl D. Kennerly, Telephone: (703) 603-7740, Fax: (703) 603-0655, or e-mail SKennerly@jwod.gov.

SUPPLEMENTARY INFORMATION: This notice is published pursuant to 41 U.S.C 47(a)(2) and 41 CFR 51-2.3. Its purpose is to provide interested persons an opportunity to submit comments on the proposed actions.

If the Committee approves the proposed additions, the entities of the Federal Government identified in the notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

Product/NSN: Adhesive Roller Mop & Refill,

M.R. 1085 (Mop),

M.R. 1095 (Refill).

NPA: Winston-Salem Industries for the Blind, Winston-Salem, North Carolina.

Contracting Activity: Defense Commissary Agency (DeCA), Fort Lee, Virginia.

Services

Service Type/Location: Cleaning Service—Gutter Cleaning, Bremerton Naval Complex, Bremerton, Washington.

NPA: Skookum Educational Programs, Port Townsend, Washington.

Contracting Activity: Naval Facilities Engineering Command, Engineering Field Activity, Northwest, Poulsbo, Washington.

Service Type/Location: Custodial Services, Basewide, Naval Submarine Base, Bangor, Washington.

NPA: Skookum Educational Programs, Port Townsend, Washington.

Contracting Activity: Naval Facilities Engineering Command, Engineering Field Activity, Northwest, Poulsbo, Washington.

Service Type/Location: Custodial Services, Department of Homeland Security, Customs & Border Protection, Pier One Ala Moana Blvd., Honolulu, Hawaii.

NPA: Lanakila Rehabilitation Center, Honolulu, Hawaii.

Contracting Activity: Department of Homeland Security, Indianapolis, Indiana.

Service Type/Location: Custodial Services, Jim Creek Radio Station, Jim Creek, Washington.

NPA: Northwest Center for the Retarded, Seattle, Washington.

Contracting Activity: Naval Facilities Engineering Command, Engineering Field Activity, Northwest, Poulsbo, Washington.

Service Type/Location: Custodial Services, Naval Undersea Warfare Center Division, Keyport, Washington.

NPA: Skookum Educational Programs, Port Townsend, Washington.

Contracting Activity: Naval Facilities Engineering Command, Engineering Field Activity, Northwest, Poulsbo, Washington.

Service Type/Location: Custodial Services, Smokey Point Support Complex, Smokey Point, Washington.

NPA: Northwest Center for the Retarded, Seattle, Washington.

Contracting Activity: Naval Facilities Engineering Command, Engineering Field Activity, Northwest, Poulsbo, Washington.

Service Type/Location: Grounds Maintenance, Bangor Naval Submarine Base, Bangor, Washington.

NPA: Peninsula Services, Bremerton, Washington.

Contracting Activity: Naval Facilities Engineering Command, Engineering Field Activity, Northwest, Poulsbo, Washington.

Service Type/Location: Grounds Maintenance, Naval Hospital Bremerton, HP01 Boone Road, Bremerton, Washington.

NPA: Peninsula Services, Bremerton, Washington.

Contracting Activity: Naval Facilities Engineering Command, Engineering Field Activity, Northwest, Poulsbo, Washington.

Service Type/Location: Grounds Maintenance, Camp Wesley Harris Rifle Range, Bremerton, Washington.

NPA: Peninsula Services, Bremerton, Washington.

Contracting Activity: Naval Facilities Engineering Command, Engineering Field Activity, Northwest, Poulsbo, Washington.

Service Type/Location: Grounds Maintenance, Flight Line and Surrounding Runway Areas, NAS Whidbey Island, Washington.

NPA: New Leaf, Inc., Oak Harbor, Washington.

Contracting Activity: Naval Facilities Engineering Command, Engineering Field Activity, Northwest, Poulsbo, Washington.

Service Type/Location: Grounds Maintenance, Jackson Park Housing Area, Bremerton, Washington.

NPA: Peninsula Services, Bremerton, Washington.

Contracting Activity: Naval Facilities Engineering Command, Engineering Field Activity, Northwest, Poulsbo, Washington.

Service Type/Location: Grounds Maintenance, Jim Creek Radio Station, Jim Creek, Washington.

NPA: Northwest Center for the Retarded, Seattle, Washington.

Contracting Activity: Naval Facilities Engineering Command, Engineering Field Activity, Northwest, Poulsbo, Washington.

Service Type/Location: Grounds Maintenance, Outlying Field Area (OLF) near Coupeville, Washington.

NPA: New Leaf, Inc., Oak Harbor, Washington.

Contracting Activity: Naval Facilities Engineering Command, Engineering Field Activity, Northwest, Poulsbo, Washington.

Service Type/Location: Grounds Maintenance, Smokey Point Support Complex, Smokey Point, Washington.

NPA: Northwest Center for the Retarded, Seattle, Washington.

Contracting Activity: Naval Facilities Engineering Command, Engineering Field Activity, Northwest, Poulsbo, Washington.

Service Type/Location: Hospital Housekeeping Services, Naval Hospital Bremerton, HP01 Boone Road, Bremerton, Washington.

NPA: Skookum Educational Programs, Port Townsend, Washington.

Contracting Activity: Engineering Field Activity, Northwest, Poulsbo, Washington.

Service Type/Location: Maintenance Service—Re-lamping, Bremerton Naval Complex, Bremerton, Washington.

NPA: Skookum Educational Programs, Port Townsend, Washington.

Contracting Activity: Naval Facilities Engineering Command, Engineering Field Activity, Northwest, Poulsbo, Washington.

Service Type/Location: Maintenance Service—Cargo Door, Bremerton Naval Complex, Bremerton, Washington.

NPA: Skookum Educational Programs, Port Townsend, Washington.

Contracting Activity: Naval Facilities Engineering Command, Engineering Field Activity, Northwest, Poulsbo, Washington.

Service Type/Location: Painting Service—Street Striping, Bremerton Naval Complex, Bremerton, Washington.

NPA: Skookum Educational Programs, Port Townsend, Washington.

Contracting Activity: Naval Facilities Engineering Command, Engineering Field Activity, Northwest, Poulsbo, Washington.

Service Type/Location: Provision & Service of Chemical Toilets, Bremerton Naval Complex, Bremerton, Washington.

NPA: Skookum Educational Programs, Port Townsend, Washington.

Contracting Activity: Naval Facilities Engineering Command, Engineering Field Activity, Northwest, Poulsbo, Washington.

Service Type/Location: Provision & Service of Portable Hand Wash Units, Bremerton Naval Complex, Bremerton, Washington.

NPA: Skookum Educational Programs, Port Townsend, Washington.

Contracting Activity: Naval Facilities Engineering Command, Engineering Field Activity, Northwest, Poulsbo, Washington.

Sheryl D. Kennerly,
Director, Information Management.

[FR Doc. E5-2054 Filed 4-28-05; 8:45 am]

BILLING CODE 6353-01-P